DEPARTMENT OF COMMERCE

International Trade Administration

[A-201-836, A-489-815, A-570-914, A-580-859, C-570-915]

Light-Walled Rectangular Pipe and Tube From Mexico, Turkey, the People's Republic of China, and the Republic of Korea: Continuation of Antidumping and Countervailing Duty Orders

AGENCY: Enforcement and Compliance, International Trade Administration, Department of Commerce.

SUMMARY: The Department of Commerce (the Department) has determined that revocation of the antidumping (AD) orders on light-walled rectangular pipe and tube (light-walled pipe and tube) from Mexico, Turkey, the People's Republic of China (PRC), and the Republic of Korea (Korea) would likely lead to continuation or recurrence of dumping, and that revocation of the countervailing duty (CVD) order on light-walled pipe and tube from the PRC would likely lead to continuation or recurrence of a countervailable subsidy. The U.S. International Trade Commission (the ITC) has also determined that revocation of these AD and CVD orders would likely lead to a continuation or recurrence of material injury to an industry in the United States. Accordingly, the Department is publishing this notice of the continuation of these AD and CVD orders.

DATES: Effective Date: June 23, 2014.

FOR FURTHER INFORMATION CONTACT: Dena Crossland or Angelica Mendoza, AD/CVD Operations Office VI (AD), or Jennifer Meek or Nancy Decker, AD/CVD Operations Office I (CVD), Enforcement and Compliance, International Trade Administration, U.S. Department of Commerce, 14th Street and Constitution Avenue NW., Washington, DC 20230; telephone: (202) 482-3362 or (202) 482-3019, respectively.

SUPPLEMENTARY INFORMATION:

Background

On April 2, 2013, the Department of Commerce (the Department) initiated the first five-year (“sunset”) reviews of the AD orders on light-walled pipe and tube from Mexico, Turkey, the PRC, and Korea ¹ (collectively, the AD Orders) and the first sunset review of the countervailing duty order on light-walled pipe and tube from the PRC ² (CVD Order) pursuant to sections 751(c) and 752 of the Tariff Act of 1930, as amended (the Act).³ As a result of these sunset reviews, the Department found that revocation of the AD Orders would likely lead to continuation or recurrence of dumping and that revocation of the CVD Order would likely lead to continuation or recurrence of countervailable subsidies and, therefore, notified the ITC of the magnitude of the margins of dumping and the subsidy rates likely to prevail should the AD Orders and the CVD Order be revoked.⁴

¹ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403, 45405 (August 5, 2008); Notice of Antidumping Duty Order: Light-Walled Rectangular Pipe and Tube From Turkey, 73 FR 31065 (May 30, 2008).

² See Light-Walled Rectangular Pipe and Tube from the People's Republic of China: Notice of Countervailing Duty Order, 73 FR 45405 (August 5, 2008).

³ See Initiation of Five-Year (“Sunset”) Review, 78 FR 19647 (April 2, 2013).

⁴ See Final Results of Expedited Sunset Reviews of Antidumping Duty Orders: Light-Walled Rectangular Pipe and Tube From Mexico, Turkey, the People's Republic of China, and the Republic of Korea, 78 FR 47671 (August 6, 2013) and Light-Walled Rectangular Pipe and Tube From the People's Republic of China: Final Results of the Expedited First Sunset Review of the Countervailing Duty Order, 78 FR 48416 (August 8, 2013).

On June 13, 2014, the ITC published its determination, pursuant to sections 751(c)(1) and 752(a) of the Act, that revocation of the AD Orders and the CVD Order would likely lead to continuation or recurrence of material injury within a reasonably foreseeable time.⁵

⁵ See Light-Walled Rectangular Pipe from China, Korea, Mexico and Turkey; Determinations, 79 FR 33950 (June 13, 2014); see also ITC Publication 4470 (June 2014) entitled Light-Walled Rectangular Pipe and Tube from China, Korea, Mexico, and Turkey (Inv. Nos. 701-TA-449 and 731-TA-1118-1121 (Review)).

Scope of the Orders

The merchandise subject to the orders is certain welded carbon quality light-walled steel pipe and tube, of rectangular (including square) cross section, having a wall thickness of less than 4 mm. The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to the Orders is currently classified under the Harmonized Tariff Schedule of the United States (HTSUS) subheadings 7306.61.50.00 and 7306.61.70.60. While HTSUS subheadings are provided for convenience and customs purposes, the written description of the scope of the orders is dispositive.

Continuation of the Orders

As a result of the determinations by the Department and the ITC that revocation of the AD Orders and the CVD Order would likely lead to continuation or recurrence of dumping and a countervailable subsidy, and material injury to an industry in the United States, pursuant to sections 751(c) and 751(d)(2) of the Act, the Department hereby orders the continuation of the AD Orders and the CVD Order.

U.S. Customs and Border Protection will continue to collect cash deposits at the rates in effect at the time of entry for all imports of subject merchandise. The effective date of the continuation of the AD Orders and the CVD Order is the date of publication in the Federal Register of this notice of continuation. Pursuant to section 751(c)(2) of the Act, the Department intends to initiate the next sunset reviews of these orders not later than 30 days prior to the fifth anniversary of the effective date of this continuation.

These sunset reviews and this notice are in accordance with section 751(c) of the Act and published pursuant to section 777(i)(1) of the Act.

Dated: June 13, 2014.
Lynn Fischer Fox,
Deputy Assistant Secretary for Policy and Negotiations.

[FR Doc. 2014-14604 Filed 6-20-14; 8:45 am]

BILLING CODE 3510-DS-P